DEPARTMENT OF ENERGY

Federal Energy Regulatory Commission

[Docket Nos. EC05-120-000, et al.]

Prime Power Sales I, LLC, et al. Electric Rate and Corporate Filings

August 16, 2005.

The following filings have been made with the Commission. The filings are listed in ascending order within each docket classification.

1. Prime Power Sales I, LLC, Madison Niche Opportunities, LLC, GS Prime Direct Holdings, LLC

[Docket No. EC05-120-000]

Take notice that on August 9, 2005, Prime Power Sales I, LLC (PPSI), Madison Niche Opportunities, LLC (MNO), and GS Prime Direct Holdings, LLC (GS Holdings) (collectively, Applicants) filed with the Federal Energy Regulatory Commission an application pursuant to section 203 of the Federal Power Act for authorization of a disposition of jurisdictional facilities whereby GS Holdings will transfer all of its ownership interests in PPSI to MNO. Applicants request confidential treatment of Exhibit B and Exhibit I, pursuant to 18 CFR 388.112 of the Commission's regulations.

Comment Date: 5 p.m. eastern time on August 30, 2005.

2. Metro Energy, L.L.C.

[Docket Nos. EC05-121-000; ER01-2317-006]

Take notice that on August 9, 2005, Metro Energy, L.L.C. (Metro Energy), submitted an application pursuant to section 203 of the Federal Power Act for authorization of a disposition of a jurisdictional facility whereby ownership of the 50% ownership interest in Metro Energy held by an indirect, wholly-owned subsidiary of Duquesne Light Holdings, Inc. will be transferred to the holder of the remaining 50% ownership interest in Metro Energy, DTE Energy Services Company, Inc. (DTEES), an indirect, wholly-owned subsidiary of DTE Energy Company. Metro Energy states that DTEES will own 100% of the ownership interests in Metro Energy. Metro Energy further states that included with the application, pursuant to section 205 of the Federal Power Act is a notice of no material change in status with respect to its market-based rate authorization.

Comment Date: 5 p.m. eastern time on August 30, 2005.

3. TransCanada Hydro Northeast Inc., Vermont Hydro-electric Power Authority

[Docket No. EC05-122-000]

Take notice that on August 10, 2005, the Vermont Hydro-electric Power Authority (VHPA) submitted an application pursuant to section 203 of the Federal Power Act (FPA) requesting authorization, to the extent necessary, for the transfer of certain FPA-jurisdictional facilities associated with the 49 MW Bellows Falls Hydroelectric Project from TransCanada Hydro Northeast Inc. to VHPA in order for VHPA to lease the Facility to the Bellows Falls Power Company, LLC.

Comment Date: 5 p.m. eastern time on August 31, 2005.

4. Monongahela Power Company; Monongahela Power Company; Columbus Southern Power Company

[Docket No. EC05-123-000; ER05-1312-000]

Take notice that on August 11, 2005, Monongahela Power Company (Monongahela) filed a request pursuant to section 203 of the Federal Power Act (FPA) and Part 33 of the Commission's Regulations, for Commission approval of a proposed transfer of Monongahela's transmission facilities located in Ohio to Columbus Southern Power Company (CSP).

Monongahela states that the transaction involves the transfer of jurisdictional transmission and distribution assets located within the state of Ohio, and the transfer of all of Monongahela's Ohio assets to CSP.

Comment Date: 5 p.m. eastern time on September 1, 2005.

5. GridSouth Transco, L.L.C.; Carolina Power & Light Company; Duke Energy Corporation; South Carolina Electric & Gas Company

[Docket No. RT01-74-000]

Take notice that on August 11, 2005, Carolina Power & Light Company, Duke Energy Corporation, and South Carolina Electric & Gas Company, (collectively, GridSouth Sponsors) notified the Commission that they have elected to terminate the GridSouth Transco project.

Comment Date: 5 p.m. eastern time on September 15, 2005.

6. Southwest Power Pool, Inc.

[Docket Nos. RT04-1-014; ER04-48-014]

Take notice that on August 9, 2005, Southwest Power Pool, Inc., (SPP) submitted for filing changes to its Bylaws and Membership Agreement, in accordance with the Commission's Order Nos. 2000 and 2000-A, and the Commission's Orders issued February 11, 2005, March 21, 2005, and May 20, 2005, in the above-referenced dockets. SPP requests an effective date of July 26, 2005.

SPP states that it has served a copy of its filing on all parties to the proceeding. In addition, SPP also states that a copy of SPP's filing had been served on all state commissions within SPP's service region. Finally, SPP indicates that SPP's filing will be posted on the SPP Web page (http://www.spp.org).

Comment Date: 5 p.m. eastern time on August 30, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-4564 Filed 8-22-05; 8:45 am]

BILLING CODE 6717-01-P